DEPARTMENT OF COMMERCE

National Oceanic and Atmospheric Administration

RIN 0648-XC860

North Pacific Fishery Management Council; Public Meetings

AGENCY: National Marine Fisheries Service (NMFS), National Oceanic and Atmospheric Administration (NOAA), Commerce.

ACTION: Notice of public meetings.

SUMMARY: The North Pacific Fishery Management Council (Council) and its advisory committees will hold public meetings in Anchorage, AK.

DATES: The meetings will be held September 30, 2013 through October 10, 2013. See SUPPLEMENTARY INFORMATION for specific dates and times. The Council will begin its plenary session at 8 a.m. on Wednesday, October 2, continuing through Tuesday, October 8, 2013. The Scientific Statistical Committee (SSC) will begin at 8 a.m. on Monday, September 30 and continue through Wednesday, October 2, the Council's Advisory Panel (AP) will begin at 8 a.m. on Tuesday, October 3 and continue through Saturday, October 5. Sablefish Gear Committee, September 30, 10 a.m. at Council office, Room 205. All meetings are open to the public, except executive sessions.

ADDRESSES: The meetings will be held on Hilton Hotel, 500 West 3rd Avenue, Anchorage, AK.

Council address: North Pacific Fishery Management Council, 605 W 4th Avenue, Suite 306, Anchorage, AK 99501-2252.

FOR FURTHER INFORMATION CONTACT: David Witherell, Council staff; telephone: (907) 271-2809.

SUPPLEMENTARY INFORMATION: The Council will begin its plenary session at 8 a.m. on Wednesday, October 2, continuing through Tuesday, October 8, 2013. The Scientific Statistical Committee (SSC) will begin at 8 a.m. on Monday, September 30 and continue through Wednesday, October 2, the Council's Advisory Panel (AP) will begin at 8 a.m. on Tuesday, October 3 and continue through Saturday, October 5. Sablefish Gear Committee, September 30, 10 a.m. at Council office, Room 205. All meetings are open to the public, except executive sessions.

Council Plenary Session: The agenda for the Council's plenary session will include the following issues. The Council may take appropriate action on any of the issues identified.

1. Executive Director's Report

NMFS Management Report (including Update on Limited Access Privilege Program (LAPP) Cost Recovery, Flow Scale analysis/regulations update)

ADF&G Report (including review of Board of Fisheries Statewide Pacific cod proposals)

U.S. Coast Guard Report

U.S. Fish and Wildlife Service Report

Protected Species Report

2. Observer Program: Report from NMFS on information requests; Observer Program 2014 year deployment plan; Receive Observer Advisory Committee report and take action as necessary; Electronic Monitoring (EM).(T)

3. Steller Sea Lion (SSL) Issues: Final action on the SSL Environmental Impact Statement (EIS).

4. Bering Sea Aleutian Island (BSAI) Crab Management: Receive Plan Team report; Final Overfishing Level (OFL)/Allowable Biological Catch (ABC) specifications for 6 stocks.

5. Groundfish Specifications: Stock Structure Workshop Report; Groundfish Harvest Specifications: Adopt proposed specifications; report on Bering Sea Sablefish Total Allowable Catch (TAC) apportionment.

6. GOA Trawl Issues: Updated discussion paper on GOA Trawl Bycatch Management; Final action on GOA Trawl Data Collection; Initial review of GOA Rockfish Chinook Cap rollover.

7. BSAI Salmon Bycatch: Seashare report on the Salmon Donation Program; Industry Incentive Program Agreements (IPA) report for BSAI chum salmon; Review BSAI Chinook Salmon Report.

8. Miscellaneous Issues: Discussion paper on Aleutian Island Pacific cod processing (T); GOA Gear Committee Report on implementing a sablefish pot fishery.

10. Staff Tasking: Review Committees and tasking; Ecosystem Committee Report on Ecosystem Based Fished Management Workplan.

The Advisory Panel will address most of the same agenda issues as the Council except B reports.

The SSC agenda will include the following issues:

1. BS/AI Crab

2. Groundfish Specifications

3. Observer Program

4. GOA Trawl Issues

In addition to providing ongoing scientific advice for fishery management decisions, the SSC functions as the Councils primary peer review panel for scientific information as described by the Magnuson-Stevens Act section 302(g)(1)(e), and the National Standard 2 guidelines (78 FR 43066). The peer review process is also deemed to satisfy the requirements of the Information Quality Act, including the OMB Peer Review Bulletin guidelines. The Agenda is subject to change, and the latest version will be posted at http://www.alaskafisheries.noaa.gov/npfmc/. Background documents, reports, and analyses for review are posted on the Council Web site in advance of the meeting. The names and organizational affiliations of SSC members are also posted on the Web site.

Although non-emergency issues not contained in this agenda may come before this group for discussion, those issues may not be the subject of formal action during these meetings. Action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Gail Bendixen at (907) 271-2809 at least 7 working days prior to the meeting date.

Dated: September 4, 2013.
Tracey L. Thompson,
Acting Deputy Director, Office of Sustainable Fisheries, National Marine Fisheries Service.

[FR Doc. 2013-21884 Filed 9-6-13; 8:45 am]

BILLING CODE 3510-22-P